NATIONAL AERONAUTICS AND SPACE ADMINISTRATION

[Notice 13-073]

NASA Advisory Council; Technology and Innovation Committee; Meeting.

AGENCY: National Aeronautics and Space Administration.

ACTION: Notice of meeting.

SUMMARY: The National Aeronautics and Space Administration (NASA) announces a meeting of the Technology and Innovation Committee of the NASA Advisory Council (NAC). The meeting will be held for the purpose of reviewing status of the Space Technology Mission Directorate programs; status of activities within the Office of the Chief Technologist with an emphasis on the discussing the Agency's Grand Challenge; update on technology work in the NASA Science Mission Directorate; status update of the Cryogenic Propellant Storage and Transfer project: an overview of the technologies requirements for the proposed Asteroid Retrieval Mission; an update on NASA's Commercial Spaceflight efforts; and an overview of Aeronautics program and plans.

DATES: Tuesday, July 30, 2013, 8:00 a.m. to 5:00 p.m., Local Time.

ADDRESSES: NASA Headquarters, 300 E Street SW., Room MIC5A, Washington, DC 20546.

FOR FURTHER INFORMATION CONTACT: Mr. Mike Green, Office of the Chief Technologist, NASA Headquarters, Washington, DC 20546, (202) 358-4710, fax (202) 358-4078, or g.m.green@nasa.gov.

SUPPLEMENTARY INFORMATION: The meeting will be open to the public up to the capacity of the room. This meeting is also available telephonically and by WebEx. Any interested person may call the USA toll free conference call number 866-804-6184, passcode 3472886, to participate in this meeting by telephone. The WebEx link is https://nasa.webex.com/, the meeting number is 994 064 646, and the password is Technology0713#.

The agenda for the meeting includes the following topics:

—Office of the Chief Technologist Update

—Discussion of the Agency Grand Challenge

—Space Technology Mission Directorate Update

—Overview of Science Mission Directorate Technology activities

—Update on the Cryogenic Propellant Storage and Transfer project

—Update on NASA's Commercial Spaceflight Development

—Overview of NASA's Aeronautics technology program.

—Overview of the Space Technology role in the proposed Asteroid Retrieval Mission (Note: this one-hour briefing will be presented in a joint meeting with the Human Exploration and Operation Committee in HQ room 9H40).

It is imperative that the meeting be held on these dates to accommodate the scheduling priorities of the key participants. Attendees will be requested to sign a register and to comply with NASA security requirements, including the presentation of a valid picture ID to Security before access to NASA Headquarters. Foreign Nationals attending this meeting will be required to provide a copy of their passport and visa in addition to the following information no less than 10 working days prior to the meeting: Full name; gender; date/place of birth; citizenship; visa information (number, type, expiration date; passport information (number, country, expiration date); employer/affiliation information (name of institution, address, country, telephone); title/position of attendee and home address no less than 8 working days prior to the meeting by contacting Ms. Anyah Dembling via email at anyah.b.dembling@nasa.gov or by telephone at (202) 358-5195. U.S. Citizens and Permanent Residents (green card holders) are requested to submit their name and affiliation 3 working days prior to the meeting.

Patricia D. Rausch,
Advisory Committee Management Officer, National Aeronautics and Space Administration.

[FR Doc. 2013-16340 Filed 7-8-13; 8:45 am]

BILLING CODE 7510-13-P